DEPARTMENT OF THE TREASURY

Alcohol and Tobacco Tax and Trade Bureau

27 CFR Part 9

[Docket No. TTB-2023-0004; Notice No. 223]

RIN 1513-AC97

Proposed Establishment of the Contra Costa Viticultural Area and Modification of the San Francisco Bay and Central Coast Viticultural Areas

AGENCY: Alcohol and Tobacco Tax and Trade Bureau, Treasury.

ACTION: Notice of proposed rulemaking.

SUMMARY: The Alcohol and Tobacco Tax and Trade Bureau (TTB) proposes to establish the approximately 167,146-acre “Contra Costa” American viticultural area (AVA) in Contra Costa County, California. Only the westernmost portion of the proposed AVA would lie in the established San Francisco Bay and Central Coast AVAs. To avoid this partial overlap, TTB proposes to expand the boundary of the established San Francisco Bay and Central Coast AVAs to entirely encompass the proposed Contra Costa AVA. The proposed expansions would add approximately 109,955 acres to each of the established AVAs. TTB designates viticultural areas to allow vintners to better describe the origin of their wines and to allow consumers to better identify wines they may purchase. TTB invites comments on these proposals.

DATES: TTB must receive your comments on or before May 30, 2023.

ADDRESSES: You may electronically submit comments to TTB on this proposal and view copies of this document, its supporting materials, and any comments TTB receives on the proposal within Docket No. TTB-2023-0004, as posted on Regulations.gov (https://www.regulations.gov), the Federal e-rulemaking portal. Please see the “Public Participation” section of this document below for full details on how to comment on this proposal via Regulations.gov or U.S. mail, and for full details on how to obtain copies of this document, its supporting materials, and any comments related to this proposal.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated the functions and duties in the administration and enforcement of these provisions to the TTB Administrator through Treasury Department Order 120-01, dated December 10, 2013 (superseding Treasury Order 120-01, dated January 24, 2003).

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA that affect viticulture, such as climate, geology, soils, physical features, and elevation, that make the proposed AVA distinctive and distinguish it from adjacent areas outside the proposed AVA boundary;

• The appropriate United States Geological Survey (USGS) map(s) showing the location of the proposed AVA, with the boundary of the proposed AVA clearly drawn thereon; and

• A detailed narrative description of the proposed AVA boundary based on USGS map markings.

If the petition proposes the establishment of a new AVA entirely within, or overlapping, an existing AVA, the evidence submitted must include information that identifies the attributes that are consistent with the existing AVA and explain how the proposed AVA is sufficiently distinct from the existing AVA and therefore appropriate for separate recognition. If a petition seeks to expand the boundaries of an existing AVA, the petition must show how the name of the existing AVA also applies to the expansion area, and must demonstrate that the area covered by the expansion has the same distinguishing features as those of the existing AVA, and different features from those of the area outside the proposed, new boundary.

Petition To Establish the Contra Costa AVA and To Modify the Boundaries of the San Francisco Bay and Central Coast AVAs

TTB received a petition from Patrick Shabram, on behalf of the Contra Costa Winegrowers Association, proposing to establish the “Contra Costa” AVA and to modify the boundaries of the existing San Francisco Bay (27 CFR 9.157) and Central Coast (27 CFR 9.75) AVAs. The proposed Contra Costa AVA is located in Contra Costa County, California, and is partially within the two established AVAs. The approximately 167,146-acre proposed AVA currently contains at least 14 wineries and at least 60 commercial vineyards covering a total of approximately 1,700 acres. The most commonly grown grape varietal in the proposed AVA is Zinfandel, but other varieties grown in the proposed AVA include petite sirah, mourvedre, chardonnay, and cabernet sauvignon.

The westernmost portion of the proposed Contra Costa AVA would lie within the existing San Francisco Bay and Central Coast AVAs. To address the partial overlap and account for viticultural similarities, the petition also proposes to expand the boundaries of both established AVAs so that the entire proposed Contra Costa AVA would be included within both AVAs. The proposed expansion would increase the size of the San Francisco Bay and Central Coast AVAs by approximately 109,955 acres each.

The distinguishing features of the proposed Contra Costa AVA are its topography and climate. The petition also included information about the soils of the proposed AVA, but did not provide a clear comparison of the soils in the proposed AVA to those of the surrounding regions. Therefore, TTB is unable to determine if soils are a distinguishing feature of the proposed AVA. Unless otherwise noted, all information and data contained in the following sections are from the petition to establish the proposed AVA and its supporting exhibits.

Proposed Contra Costa AVA

Name Evidence

The proposed Contra Costa AVA takes its name from its location within Contra Costa County, California. According to the petition, the Spanish phrase “contra costa” translates to “opposite coast,” which is a reference to the county's position opposite San Francisco on San Francisco Bay. The petition states that prior to Prohibition, Contra Costa County was one of the Bay Area's leading winegrowing regions. The petition notes that grapes from vineyards in the region have a reputation for having their own “Contra Costa style,” ¹ described as an “earthy, dusty and leathery quality” attributed to the “defining terroir” of the region.

¹ http://wine.appellationamerica.com/wine-region/Contra-Costa-County.html.

The petition included multiple examples of the use of the name “Contra Costa” to describe the region of the proposed AVA. For example, the Contra Costa Water District supplies water to customers within the proposed AVA. Non-profit agencies serving the proposed AVA include Contra Costa Humane Society, Contra Costa Senior Legal Services, Meals on Wheels of Contra Costa, and Sustainable Contra Costa. Other businesses within the proposed AVA include Contra Costa Hardwood Floor Service, Alameda Contra Costa Fire Extinguisher Equipment Company, Contra Costa Farms LLC, Contra Costa Cinema, Contra Costa Country Club, Contra Costa Auto Sales, and Contra Costa Powersports.

Boundary Evidence

The proposed Contra Costa AVA is located in north-central and eastern Contra Costa County, in California, along the southern coast of Suisun Bay. The northern boundary of the proposed AVA follows the southern shore of Suisun Bay. The eastern boundary follows a series of straight lines drawn between points on the USGS maps and approximates the boundary between Contra Costa County and San Joaquin County, which is farther inland and receives less direct marine influence than the proposed AVA. The southern boundary is mostly comprised of a series of straight lines drawn between points on the maps and separates the proposed AVA from higher elevations and inland regions with less marine influence. The western boundary also follows a series of straight lines between points and separates the proposed AVA from regions with steeper slopes and greater marine influence, including the established Lamorinda AVA (27 CFR 9.254), which shares a portion of its boundary with the proposed Contra Costa AVA.

Distinguishing Features

According to the petition, the distinguishing features of the proposed Contra Costa AVA are its topography and climate. The Suisun Bay is directly to the north of the proposed AVA. Although some islands are located in the bay, the petition excluded them due to their waterlogged, highly organic, acidic soils that are unlikely to be suitable for viticulture. As a result, the following sections will describe the features of the regions to the east, south, and west of the proposed AVA.

Topography

According to the petition, the proposed Contra Costa AVA consists of relatively flat terrain interrupted in places by rolling hills. Most of the terrain has elevations below 100 feet, and nearly all of the proposed AVA is below 1,000 feet. Slope angles within the proposed AVA are typically less than 5 percent, but can reach up to 30 percent in some of the hills along the western and southern boundary and in the ridgeline that runs north-south between Concord and Bay Point. Although some areas of steep slopes are included in the proposed AVA in order to simplify the boundary, the petition states that over 71 percent of the proposed AVA has slopes with less than 5 percent grade, and 78 of the proposed AVA has slopes with less than 10 percent grade. The petition states that cool, heavy marine air stays at lower elevations, leading to diurnal cooling. Areas at higher elevations are above the layer of marine air and experience less cooling. Differences in temperatures can cause differences in grape development, the timing of harvest, and sugar accumulation and acidity in the grapes.

East of the proposed AVA, the terrain is generally flat as one moves into the California Delta and the San Joaquin Valley. To the south and west of the proposed AVA, the terrain becomes steeper, with slope angles generally exceeding 20 percent and commonly above 30 percent. Elevations to the west and south of the proposed AVA are also generally higher than within the proposed AVA, exceeding 1,300 feet in the region to the west and reaching 3,849 feet at the summit of Mt. Diablo to the south of the proposed AVA.

Climate

The petition provided information about the climate of the proposed Contra Costa AVA. According to the petition, the warm days and cool nights affect the character of the grapes grown in the proposed AVA and the resulting wine, resulting in a “definitive Contra Costa style” ² that is characterized by an “earthy, dusty and leathery quality.” ³

² http://wine.appellationamerica.com/wine-region/Contra-Costa-County.html.

³ Ibid.

Climate data in the petition included growing degree day accumulations ⁴ and average annual precipitation amounts. The petition also included information about the average growing season maximum temperatures and the average minimum temperatures from within the proposed AVA and the surrounding regions. However, because the temperature data was from only 2 years, TTB was unable to determine if maximum and minimum temperatures are a distinguishing feature of the proposed AVA, and the information is not included in this rulemaking document.⁵

⁴ See Albert J. Winkler, General Viticulture (Berkeley: University of California Press, 1974), pages 61-64. In the Winkler climate classification system, annual heat accumulation during the growing season, measured in annual Growing Degree Days (GDDs), defines climatic regions. One GDD accumulates for each degree Fahrenheit that a day's mean temperature is above 50 degrees F, the minimum temperature required for grapevine growth.

⁵ The maximum and minimum temperature data is included in Tables 4 and 5 of the petition, which is posted within Docket No. TTB-2023-0004 at https://www.regulations.gov.

⁶ Station identified in petition as CIMIS47.

⁷ Station identified in petition as CIMIS170.

⁸ Station identified in petition as CIMIS247.

⁹ Station identified in petition as KCAWALNU35.

¹⁰ Station identified in petition as CIMIS248.

¹¹ Station identified in petition as HBP.

¹² Station identified in petition as CIMIS178.

¹³ Station identified in petition as BNE.

¹⁴ Station identified in petition as ONO.

¹⁵ Station identified in petition as CIMIS213.

Table 1—2014-2019 Growing Degree Day Data
Location (direction from proposed AVA) | 2019 | 2018 | 2017 | 2016 | 2015 | 2014
Brentwood ⁶ (within) | 4,275 | 4,141 | 4,157 | 4,090 | N/A | 4,195
Concord ⁷ (within) | 3,634 | 3,579 | N/A | N/A | 3,825 | 3,008
Jersey Island ⁸ (northeast) | 3,961 | 3,955 | 4,047 | N/A | N/A | N/A
Walnut Creek-Lakewood ⁹ (south) | 4,211 | 4,025 | 4,417 | N/A | N/A | N/A
San Joaquin Valley ¹⁰ (east) | 3,932 | 4,423 | 4,355 | N/A | N/A | N/A
Harvey O. Banks Pumping Station ¹¹ (south) | 4,633 | 4,535 | 4,840 | 4,607 | 4,767 | 4,973
Moraga ¹² (southwest) | 2,781 | 2,729 | 2,809 | 2,716 | 2,665 | 2,820
Briones Regional Park ¹³ (west) | 3,281 | 3,156 | N/A | 3,124 | 3,279 | 3,469
Oakland Hills ¹⁴ (west) | 2,590 | 2,327 | 2,859 | 2,386 | 2,598 | 2,602
El Cerrito ¹⁵ (west) | 2,118 | 1,848 | 2,222 | 2,005 | 2,371 | 2,308

Within the proposed Contra Costa AVA, annual GDD accumulations are generally warm, ranging from a low of 3,008 to a high of 4,275. To the northeast of the proposed AVA, at the Jersey Island location, GDD accumulations are similar to those found in the proposed AVA. However, the petition states that this region was not included in the proposed AVA due to a difference in soil types. South of the proposed AVA, in the Lakewood region of Walnut Creek, GDD accumulations are also similar to those within the proposed AVA, although the 2017 GDD accumulations for Lakewood were higher. Additionally, the petition states this region was not included in the proposed AVA because it is a largely residential area that is not suited for commercial viticulture. Farther south, at the Harvey O. Banks pumping station in Byron, GDD accumulations are significantly higher than within the proposed AVA. To the east, within the San Joaquin Valley, GDD accumulations are generally warmer than within the proposed AVA, as the marine influence decreases as one moves farther inland. West of the proposed AVA, as one moves closer to San Francisco Bay and the Pacific Ocean, GDD accumulations are lower than within the proposed AVA. GDD accumulations west of the proposed AVA range from 1,848 at El Cerrito, which is adjacent to San Francisco Bay, to 3,469 at Briones Regional Park, which is further inland and closer to the proposed Contra Costa AVA.

The petition also includes annual precipitation amounts for the proposed AVA and the surrounding regions. The data is shown in the following table. Four stations with two years or less of precipitation data, which are located to the northeast, east, and southeast of the proposed AVA, were excluded from this chart, but are included in the petition. The precipitation data shows that the proposed Contra Costa AVA received less rainfall than the regions to the west and southwest.

¹⁶ The period of record is from October 1 of one year to September 30 of the next year.

¹⁷ Station identified in petition as KCAANTIO10.

Table 2—Annual ¹⁶ Precipitation Amounts in Millimeters
[mm]
Location (direction from proposed AVA) | 2017-2018 | 2016-2017 | 2015-2016 | 2014-2015 | 2013-2014
Brentwood (within) | 243 | 345 | 497 | 435 | 279
Antioch ¹⁷ (within) | 330 | 531 | 391 | 405 | 301
Concord (within) | 351 | 565 | N/A | 335 | 232
Briones Regional Park (west) | N/A | N/A | 655 | 469 | 374
Moraga (southwest) | 593 | 1,712 | 1,179 | 712 | 907
Oakland Hills (west) | 565 | 1,073 | 737 | 561 | 490
El Cerrito (west) | 483 | N/A | 610 | 553 | 411

Summary of Distinguishing Features

The proposed Contra Costa AVA is distinguished from the surrounding regions by its topography and climate. The proposed AVA is a region of relatively flat terrain interrupted in places by rolling hills. Slope angles are typically less than 5 percent, and most of the terrain has elevations below 100 feet. Within the proposed AVA, GDD accumulations range from 3,008 to 4,275, and average annual precipitation amounts range from 232 mm to 565 mm.

North of the proposed AVA is Suisun Bay. Although there are islands within the bay, the petition omitted them from the proposed AVA due to their mucky soils that are unsuitable for commercial viticulture. To the east of the proposed AVA is the California Delta and the San Joaquin Valley, which are generally flat and lack the rolling hills that interrupt the proposed Contra Costa AVA. GDD accumulations east of the proposed AVA are generally higher, ranging from 3,932 to 4,423. South of the proposed AVA, the terrain is steeper, with slope angles generally exceeding 20 percent grade. GDD accumulations are also higher, ranging from 4,025 to 4,973. West of the proposed AVA, elevations are higher and can exceed 1,300 feet. The climate west of the proposed AVA is generally cooler and wetter, with GDD accumulations ranging from 1,848 to 3,469 and average annual precipitation amounts ranging from 411 mm to 737 mm.

Comparison of the Proposed Contra Costa AVA to the Existing San Francisco Bay AVA

The San Francisco Bay AVA was established by T.D. ATF-407, which was published in the Federal Register on October 24, 1985 (50 FR 43130). T.D. ATF-407 describes the San Francisco Bay AVA as entirely being within seven counties, including the eastern portion of Contra Costa County. The distinguishing feature of the San Francisco Bay AVA is “a marine climate which is heavily influenced by the proximity of the San Francisco Bay and the Pacific Ocean.” T.D. ATF-407 also notes that the eastern boundary of the AVA was chosen, in part, as a way of separating the AVA from the drier, warmer inland region of the Central Valley, which lacks a strong marine influence.

The proposed Contra Costa AVA is partially located within the San Francisco Bay AVA and shares some of the characteristics of the larger established AVA. For example, similar to other locations in the San Francisco AVA, the proposed AVA is affected by cool, moist air from the Pacific Ocean and the San Francisco Bay. The proposed AVA is also generally cooler and wetter than the inland region to the east. However, the proposed Contra Costa AVA has some characteristics that distinguish it from the larger San Francisco Bay AVA. For instance, although the proposed Contra Costa AVA is influenced by marine air from San Francisco Bay, the proposed AVA is not adjacent to San Francisco Bay, the air travelling through Suisun Bay instead. Additionally, while T.D. ATF-407 describes the San Francisco Bay AVA as having a cool Mediterranean climate classification, the proposed Contra Costa AVA also includes regions with a warm Mediterranean climate classification.

Comparison of the Proposed Contra Costa AVA to the Existing Central Coast AVA

The Central Coast AVA was established by T.D. ATF-216, which also established the San Francisco Bay AVA. T.D. ATF-216 describes the Central Coast AVA as a region between the Pacific Ocean and the Coast Ranges of California. The Central Coast AVA has a climate that is greatly affected by the marine influence, with the region to the east of the AVA having a more arid climate.

The proposed Contra Costa AVA is partially located within the Central Coast AVA and shares some of the characteristics of the larger established AVA. For example, similar to other locations in the Central Coast AVA, the proposed AVA is affected by cool, moist air from the Pacific Ocean, which enters the region from San Francisco Bay via Suisun Bay. The proposed AVA is also generally cooler and wetter than the region to the east. However, the proposed Contra Costa AVA has some characteristics that distinguish it from the larger, multi-county Central Coast AVA. For instance, being a smaller region, the proposed AVA has less topographic variety than the Central Coast AVA. Additionally, being adjacent to the shoreline of Suisun Bay, the proposed AVA is more directly exposed to cool marine air than other regions of the Central Coast AVA, such as the Paso Robles AVA (27 CFR 9.84), which is farther inland and, according to T.D. ATF-216, receives its marine air via the Salinas River, which empties into Monterey Bay.

Proposed Modification of the San Francisco Bay AVA

As previously noted, the petition to establish the proposed Contra Costa AVA also requested an expansion of the established San Francisco Bay AVA. The San Francisco Bay AVA is located to the west of the proposed Contra Costa AVA and overlaps the western third of the proposed AVA. In order to eliminate the partial overlap and account for viticultural similarities, the petition proposed moving the eastern boundary of the San Francisco Bay AVA farther to the east to encompass the entire proposed Contra Costa AVA.

Currently, the San Francisco Bay AVA boundary in the vicinity of the proposed Contra Costa AVA and the proposed expansion area follows a straight line drawn from the summit of Mount Diablo northwest to the summit of Mulligan Hill, which is east of the city of Concord. The boundary then proceeds northwest in a straight line to the southern shoreline of Suisun Bay near the Seal Islands.

The proposed boundary modification would move the San Francisco Bay AVA boundary east so that it would be concurrent with the boundary of the proposed Contra Costa AVA and entirely encompass the proposed AVA. The proposed boundary modification would begin at the point where the current San Francisco Bay AVA boundary intersects the summit of Mount Diablo. From there, the boundary would become concurrent with the southern boundary of the proposed Contra Costa AVA, proceeding west in a straight line to the intersection of Kirker Pass Road and the 680-foot elevation contour. The proposed expansion boundary would then continue to follow the proposed Contra Costa AVA boundary in a counterclockwise direction, to the intersection of Bethel Island Road and Dutch Slough. The proposed boundary would continue following the proposed Contra Costa AVA boundary west along the shoreline of Dutch Slough, Big Break, New York Slough, and Suisun Bay, to the point where both the proposed expansion boundary and the proposed Contra Costa AVA boundary intersect with the current San Francisco Bay AVA boundary at the benchmark BM15 along the shoreline of Suisun Bay, near the Seal Islands. The proposal would increase the size of the San Francisco Bay AVA by approximately 109,955 acres.

The expansion petition included evidence that the name “San Francisco Bay” applies to the eastern region of Contra Costa County, which includes the proposed expansion area. For example, the Association of Bay Area Governments includes the Contra Costa County government as well as the governments of cities within the proposed expansion area, including Brentwood and Antioch.¹⁸ Another example is that the Brentwood California Irrigation Management Information System (CIMIS) weather station is identified on the CIMIS website as being in the “San Francisco Bay Region.” ¹⁹ The expansion also noted that an exhibit to the petition in T.D. ATF-407 included a listing of the “Largest Bay Area Wineries” from the San Francisco Business Times.²⁰ The list included Cline Cellars, which is located in the city of Oakley, within the proposed expansion area. Finally the expansion petition states that T.D. ATF-407 also included a map titled “Bay Area Place Names,” which included the cities of Pittsburg, Antioch, Brentwood, and Bryon, which are all located in the proposed expansion area.²¹

¹⁸ https://abag.ca.gov/about-abag/what-we-do/our-members.

¹⁹ See Exhibit U to the petition, which is posted within Docket No. TTB-2023-0004 at https://www.regulations.gov.

²⁰ Included in the expansion petition as Exhibit V; see Docket No. TTB-2023-0004 at https://www.regulations.gov.

²¹ Included in the expansion petition as Exhibit X see Docket No. TTB-2023-0004 at https://www.regulations.gov.

The petition claims that the region of the proposed expansion area has a climate that is similar to that of the established San Francisco Bay AVA and cooler than the Central Valley to the east. The petition states that T.D. ATF-407 identified the San Francisco Bay AVA as Regions I through III on the Winkler scale,²² indicating GDD accumulations of 3,500 (when calculated using degrees Fahrenheit) or less. The city of Livermore, which is within the San Francisco Bay AVA, was said to have a GDD accumulation of 3,400. The Central Valley, which is east of both the San Francisco Bay AVA and the proposed expansion area, was described as Region V, indicating GDD accumulations over 4,000. The expansion petition notes that Winkler's General Viticulture, which was cited in T.D. ATF-407, indicated that the cities of Antioch and Brentwood, which are located in the proposed expansion area, were identified with GDD accumulations of 4,200 and 4,100, respectively, which may have explained their exclusion from the original San Francisco Bay AVA.

²² See Albert J. Winkler, General Viticulture (Berkeley: University of California Press, 1974), pages 61-64. In the Winkler climate classification system, annual heat accumulation during the growing season, measured in annual GDDs, defines climatic regions. One GDD accumulates for each degree Fahrenheit that a day's mean temperature is above 50 degrees F, the minimum temperature required for grapevine growth. The Winkler scale regions are as follows: Region Ia, 1,500-2,000 GDDs; Region Ib, 2,000-2,500 GDDs; Region II, 2,500-3,000 GDDs; Region III, 3,000-3,500 GDDs; Region IV, 3,500-4,000 GDDs; Region V, 4,000-4,900 GDDs.

The expansion petition notes that current calculation of GDDs suggest that portions of the San Francisco Bay AVA have GDD accumulations that would place them in Region IV. For example, using climate normals from 1981-2010 and the same Winkler calculation method, the city of Livermore is 3,663, which would categorize it as Region IV. Similarly, using 1981-2010 data and the Winkler calculation method for the city of Brentwood, which is within the proposed expansion area, results in 3,801 GDDs, which also categorizes it within Region IV. Calculations for the city of Antioch resulted in 4,020 GDDs, which is within the Region V category. However, GDD accumulations for all three locations are still significantly lower than within the Central Valley city of Modesto, which has a GDD accumulation of 4,676. The petition notes that these more recent GDD calculations are not to suggest that Livermore should be removed from the San Francisco Bay AVA but rather that earlier figures may be outdated or misleading, due to climate change and shortcomings in using Winkler GDD calculations as a tool for analyzing marine influence from San Francisco Bay.

T.D. ATF-407 stated that the San Francisco Bay AVA has precipitation amounts that are lower than the regions to the north and higher than locations in the Central Valley to the east. The expansion petition provided data suggesting that the same is true for the proposed expansion area. The 1981-2010 climate normals showed that annual precipitation in the city of Livermore, within the San Francisco Bay AVA, was 387 mm. Precipitation amounts within Brentwood and Antioch, within the proposed expansion area, were 326 mm and 336 mm, respectively (approximately 12 and 14 inches). Although these precipitation amounts are lower than the amount for Livermore, the differences between these amounts and amounts in regions to the north of the San Francisco Bay AVA are even greater. For example, the cities of Napa, Petaluma, and Sonoma had precipitation amounts of 512 mm, 677 mm, and 798 mm, respectively. Additionally, the expansion petition notes that an exhibit in the original San Francisco Bay AVA petition showed the city of Antioch as having precipitation amounts of 13 inches, which is equivalent to the amount shown in the same exhibit for the city of San Jose, within the San Francisco Bay AVA, suggesting that precipitation amounts in Antioch were not a reason to exclude it from the San Francisco Bay AVA.²³ Finally, the Brentwood and Antioch precipitation amounts from 1981-2010 are also higher than the Central Valley locations of Fresno and Los Banos, which received amounts of 292 mm and 253 mm, respectively.

²³ The table was included as Exhibit Q in the original petition and is also included as Exhibit Y to the expansion petition, which are both posted in Docket TTB-2023-0004 at https://www.regulations.gov.

Proposed Modification of the Central Coast AVA Boundary

As previously noted, the petition to establish the proposed Contra Costa AVA also requested an expansion of the established Central Coast AVA. The proposed Contra Costa AVA is located along the eastern boundary of the Central Coast AVA. The western third of the proposed AVA (that is, the region encompassing the city of Concord and points west) would, if established, be located within the current boundary of the Central Coast AVA. However, unless the boundary of the Central Coast AVA is modified, the remaining two-thirds of the proposed AVA would be outside the Central Coast AVA. If approved, the proposed Central Coast AVA expansion would place the proposed Contra Costa AVA entirely within the Central Coast AVA.

Currently, the Central Coast AVA boundary in the vicinity of the proposed Contra Costa AVA and the proposed expansion area is concurrent with the current boundary of the San Francisco Bay AVA. The boundary follows a straight line drawn northwest to southeast from the southern shoreline of Suisun Bay near the Seal Islands to the summit of Mulligan Hill, which is east of the city of Concord. The boundary then follows a straight line southeast from Mulligan Hill to the summit of Mount Diablo, which is south of the proposed Contra Costa AVA, and then continues southeast in a straight line to the summit of Brushy Peak.

The proposed boundary modification would move the Central Coast AVA boundary east so that it would be concurrent with the boundary of the proposed Contra Costa AVA and entirely encompass the proposed AVA. The proposed boundary modification would begin at the point where the current Central Coast boundary intersects the benchmark BM15 along the shoreline of Suisun Bay, near the Seal Islands. From there, the proposed boundary would become concurrent with the northern boundary of the proposed Contra Costa AVA, continuing east along the shoreline of Suisun Bay, New York Slough, Big Break, and Dutch Slough to the intersection of the shoreline of Dutch Slough with Bethel Island Road. The proposed Central Coast AVA boundary would then continue to follow the proposed Contra Costa AVA boundary in a clockwise motion to the point where both boundaries rejoin the current Central Coast AVA boundary at the intersection of Kirker Pass Road and the 680-foot elevation contour, southeast of the city of Concord. The proposed boundary modification would add 109,955 acres to the Central Coast AVA, an approximate 1.1 percent increase.

The expansion petition included evidence that, although only a portion of Contra Costa County was originally included in the Central Coast AVA, the name “Central Coast” applies to the region of the county that is within the proposed expansion area, as well. For example, the web page for WineSearcher.Com states that Contra Costa County is in “California's Central Coast AVA.” ²⁴ The website lists wines from grapes grown in the eastern portion of Contra Costa County, including wines from Cline Cellars and Viano Vineyards. The web page does not distinguish between the western portion of Contra Costa County, which is in the Central Coast AVA, and the eastern portion, which is not. Although the eastern portion of the county is not currently within the Central Coast AVA and none of the wines from that region use “Central Coast” as an appellation of origin, the inclusion of wines from the eastern portion of Contra Costa County suggests that wine industry members and consumers associate the entire county with the name “Central Coast.”

²⁴ https://www.wine-searcher.com/regions-contra+costa+county. See also Exhibit O to the petition as posted within Docket No. TTB-2023-0004 at https://www.regulations.gov.

The expansion petition also notes that California law associates the region of the proposed AVA with the “Central Coast” name when it states, “Only dry wine produced entirely from grapes grown within the Counties of Sonoma, * * *, Contra Costa, * * * and Marin may be labeled with the words `California central coast dry wine.' ” ²⁵ The petition notes that TTB would not allow “Central Coast” as an appellation of origin for wines made primarily from grapes grown outside the boundaries as described in 27 CFR 9.75, but the California the statute establishes an historical association between “Central Coast” and the entirety of Contra Costa County.

²⁵ California Business and Professional Code § 25236.

The expansion petition also notes that the California Mid-State Fair held a Central Coast Wine Competition “to promote the quality and style of wines being produced on the Central Coast.” ²⁶ Wines from Contra Costa County were eligible to enter, with no distinction being made between wines made within the portion of the county within the Central Coast AVA and the portion outside the AVA. The petition states that the inclusion of wines from anywhere in the county demonstrates yet another association between the entire Contra Costa County and the term “Central Coast.”

²⁶ https://centralcoastwinecomp.com/2020/03/30/registration-opens-for-the-2020-central-coast-wine-competition.

Finally, the expansion petition notes that the U.S. Bureau of Land Management's Central Coast Field Office includes all of Contra Costa County in its Central Coast administrative unit,²⁷ further suggesting that the name “Central Coast” does not refer only to the western portion of the county that is currently within the Central Coast AVA.

²⁷ See Exhibits P and Q to the petition as posted within Docket No. TTB-2023-0004 at https://www.regulations.gov.

The expansion petition claims that the proposed Central Coast AVA expansion area has features that are similar to the primary distinguishing feature of the Central Coast AVA listed in T.D. ATF-216, namely a marine-influenced climate. The petition included GDD data from Brentwood, which is within the proposed Central Coast AVA expansion area; Clayton, Concord, and Walnut Creek, which are currently within the Central Coast AVA; and Jersey Island, which is northeast of the proposed expansion area and not located within any AVA. The petition also included data from stations in Livermore and Concord, which are also

within the Central Coast AVA, but because the data was from less than 3 years, TTB is not including it in this table. The GDD data from the other locations is shown in the following table.

Table 3—Growing Degree Day Accumulations From Within Central Coast AVA and Proposed Expansion Area
Location | 2019 | 2018 | 2017 | 2016
Brentwood | 4,275 | 4,141 | 4,175 | 4,090
Clayton | N/A | 4,489 | 4,656 | 4,097
Walnut Creek-Lakewood | 4,211 | 4,025 | 4,417 | N/A
Jersey Island | 3,961 | 3,955 | 4,047 | N/A

The GDD accumulations from within the proposed expansion area are within the range of GDD accumulations from locations within the Central Coast AVA, suggesting a similar climate. The GDD accumulations from the proposed expansion area are also higher than those from Jersey Island, which is outside both the proposed expansion area and the Central Coast AVA.

The expansion petition also notes that T.D. ATF-407, which published in the Federal Register on January 20, 1999 (64 FR 3015), expanded the Central Coast AVA. The Sunset Magazine Western Garden Book's growing zones were cited in that final rule as evidence that the expansion area should be included in the Central Coast AVA. T.D. ATF-407 states that the Central Coast AVA, at that time, included growing zones 7, 14, 15, 16, and 17. The current expansion petition notes that the proposed expansion area is in zone 14, which is described as “Northern California's inland areas with some ocean influence.” ²⁸ The proposed expansion area's placement in zone 14 further indicates a marine-influenced climate similar to that of the established Central Coast AVA.

²⁸ https://www.sunsetwesterngardencollection.com/climate-zones/zone/central-california.

TTB Determination

TTB concludes that the petition to establish the approximately 167,146-acre “Contra Costa” AVA and to concurrently modify the boundaries of the existing San Francisco Bay and Central Coast AVAs merits consideration and public comment, as invited in this document.

TTB is proposing the establishment of the new AVA and the modification of the existing San Francisco Bay AVA as one action. Accordingly, if TTB establishes the proposed Contra Costa AVA, then the proposed boundary modification of the San Francisco Bay AVA would be approved concurrently. If TTB does not establish the proposed AVA, then the San Francisco Bay AVA boundary would not be modified.

Furthermore, TTB is proposing the establishment of the new AVA and the modification of the existing Central Coast AVAs as separate actions, per the request of the petitioner. Accordingly, if TTB establishes the proposed AVA, the Central Coast AVA would be modified. However, if TTB does not establish the new AVA, the Central Coast AVA may still be modified as proposed in this document.

Boundary Description

See the narrative boundary descriptions of the petitioned-for AVA and the boundary modifications of the two established AVAs in the proposed regulatory text published at the end of this document.

Maps

The petitioner provided the required maps, and they are listed below in the proposed regulatory text. You may also view the proposed Contra Costa AVA boundary and the proposed boundary modifications of the San Francisco Bay and Central Coast AVAs on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Contra Costa,” will be recognized as a name of viticultural significance under § 4.39(i)(3) of the TTB regulations (27 CFR 4.39(i)(3)). The text of the proposed regulation clarifies this point. Consequently, wine bottlers using the name “Contra Costa” in a brand name, including a trademark, or in another label reference as to the origin of the wine, would have to ensure that the product is eligible to use the AVA name as an appellation of origin if this proposed rule is adopted as a final rule. TTB notes that the phrase “Contra Costa County” is already recognized as a term of viticultural significance by virtue of being the name of a county. Therefore, labels using “Contra Costa County” as an appellation of origin would not be affected by the establishment of this AVA.

If approved, the establishment of the proposed Contra Costa AVA and the concurrent expansions of the San Francisco Bay AVA and the Central Coast AVA would allow vintners to use “Contra Costa,” “San Francisco Bay,” and “Central Coast” as AVA appellations of origin for wines made primarily from grapes grown in the proposed Contra Costa AVA if the wines meet the eligibility requirements for the appellation. Similarly, if the Central Coast AVA boundary is modified without the establishment of the proposed Contra Costa AVA, vintners would be able to use “Central Coast” as an AVA appellation of origin for wines made primarily within the proposed expansion area if the wines meet the eligibility requirements for the appellation.

Public Participation

Comments Invited

TTB invites comments from interested members of the public on whether TTB should establish the proposed Contra Costa AVA and concurrently modify the boundaries of the established San Francisco Bay and Central Coast AVAs. TTB is interested in receiving comments on the sufficiency and accuracy of the name, boundary, topography, and other required information submitted in support of the Contra Costa AVA petition. In addition, given the proposed AVA's partial location within the existing San Francisco Bay and Central Coast AVAs, TTB is interested in comments on whether the evidence submitted in the petition regarding the distinguishing features of the proposed AVA sufficiently differentiates it from the existing AVA. TTB is also interested in comments on whether the geographic features of the proposed AVA are so distinguishable from the San Francisco Bay and Central Coast AVAs that the proposed Contra Costa AVA should not be part of the established AVAs. Please provide any available specific information in support of your comments.

TTB also invites comments on the proposed expansion of the existing Central Coast and San Francisco Bay AVAs. TTB is interested in comments on whether the evidence provided in the petition sufficiently demonstrates that the proposed expansion area is similar enough to the San Francisco Bay AVA and the Central Coast AVA to be included in them. Comments should address the pertinent information that supports or opposes the proposed Central Coast AVA and San Francisco Bay AVA boundary expansions.

Because of the potential impact of the establishment of the proposed Contra Costa AVA on wine labels that include the term “Contra Costa” as discussed above under Impact on Current Wine Labels, TTB is particularly interested in comments regarding whether there will be a conflict between the proposed area name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal by using one of the following methods:

• Federal e-Rulemaking Portal: You may send comments via the online comment form posted with this document within Docket No. TTB-2023-0004 on “Regulations.gov,” the Federal e-rulemaking portal, at https://www.regulations.gov. A direct link to that docket is available under Notice No. 223 on the TTB website at https://www.ttb.gov/wine/wine-rulemaking.shtml. Supplemental files may be attached to comments submitted via Regulations.gov. For complete instructions on how to use Regulations.gov, visit the site and click on the “Help” tab at the top of the page.

• U.S. Mail: You may send comments via postal mail to the Director, Regulations and Rulings Division, Alcohol and Tobacco Tax and Trade Bureau, 1310 G Street NW, Box 12, Washington, DC 20005.

Please submit your comments by the closing date shown above in this document. Your comments must reference Notice No. 223 and include your name and mailing address. Your comments also must be made in English, be legible, and be written in language acceptable for public disclosure. We do not acknowledge receipt of comments, and we consider all comments as originals.

Your comment must clearly state if you are commenting on your own behalf or on behalf of an organization, business, or other entity. If you are commenting on behalf of an organization, business, or other entity, your comment must include the entity's name as well as your name and position title. If you comment via Regulations.gov, please enter the entity's name in the “Organization” blank of the online comment form. If you comment via postal mail, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this document, selected supporting materials, and any online or mailed comments received about this proposal within Docket No. TTB-2023-0004 on the Federal e-rulemaking portal, Regulations.gov, at https://www.regulations.gov. A direct link to that docket is available on the TTB website at https://www.ttb.gov/wine/wine-rulemaking.shtml under Notice No. 223. You may also reach the relevant docket through the Regulations.gov search page at https://www.regulations.gov. For instructions on how to use Regulations.gov, visit the site and click on the “Help” tab at the top of the page.

All posted comments will display the commenter's name, organization (if any), city, and State, and, in the case of mailed comments, all address information, including email addresses. TTB may omit voluminous attachments or material that it considers unsuitable for posting.

You may also obtain copies of this proposed rule, all related petitions, maps and other supporting materials, and any electronic or mailed comments that TTB receives about this proposal at 20 cents per 8.5- x 11-inch page. Please note that TTB is unable to provide copies of USGS maps or any similarly-sized documents that may be included as part of the AVA petition. Contact TTB's Regulations and Rulings Division by email using the web form at https://www.ttb.gov/contact-rrd, or by telephone at 202-453-1039, ext. 175, to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

This proposed rule is not a significant regulatory action as defined by Executive Order 12866. Therefore, it requires no regulatory assessment.

Drafting Information

Karen A. Thornton of the Regulations and Rulings Division drafted this document.

List of Subjects in 27 CFR Part 9

Wine.

Proposed Regulatory Amendment

For the reasons discussed in the preamble, we propose to amend title 27, chapter I, part 9, Code of Federal Regulations, as follows:

PART 9—AMERICAN VITICULTURAL AREAS

1. The authority citation for part 9 continues to read as follows:

Authority: 27 U.S.C. 205.

Subpart C—Approved American Viticultural Areas

2. Amend § 9.75 by:

a. Removing the word “and” at the end of paragraph (b)(42);

b. Removing the “.” at the end of paragraph (b)(43) and adding a “;” in its place;

c. Adding paragraphs (b)(44) through (55);

d. Revising paragraphs (c)(4) through (c)(6);

e. Redesignating paragraphs (c)(7) through (c)(43) as paragraphs (c)(23) through (c)(59);

f. Adding new paragraphs (c)(7) through (c)(22).

The revisions and additions read as follows:

§ 9.75 Central Coast.

* * * * *

(b) * * *

(44) Benicia, California, scale 1:24,000, dated 2018;

(45) Vine Hill, California, scale 1:24,000, dated 2018;

(46) Honker Bay, California, scale 1:24,000, dated 2018;

(47) Antioch North, California, scale 1:24,000, dated 2018;

(48) Jersey Island, California, scale 1:24,000, dated 2018;

(49) Bouldin Island, California, scale 1:24,000, dated 2018;

(50) Woodward Island, California, scale 1:24,000, dated 2018;

(51) Clifton Court Forebay, California, scale 1:24,000, dated 2018;

(52) Byron Hot Springs, California, scale 1:24,000, dated 2018;

(53) Tassajara, California, scale 1:24,000, dated 2018;

(54) Antioch South, California, scale 1:24,000, dated 2018; and

(55) Clayton, California, scale 1:24,000, dated 2018.

(c) * * *

(4) From this point, the boundary proceeds east along the shoreline of Alameda County and Contra Costa County across the Richmond, San Quentin, Mare Island, Benicia (2018 edition), Vine Hill (2018 edition), Honker Bay (2018 edition), and Antioch North maps and onto the Jersey Island map to the intersection of the shoreline with Bethel Island Road.

(5) Proceed southeast in a straight line 0.7 mile to the intersection of Wells Road and Sandmound Road.

(6) Proceed northeast in a straight line 2.7 miles, crossing onto the Bouldin Island map, to the northernmost point of Holland Tract Road.

(7) Proceed south 1.9 miles along Holland Tract Road, crossing onto the Woodward Island map, to the road's intersection with the 10-foot elevation contour.

(8) Proceed south-southeast in a straight line 4.1 miles to the intersection of Orwood Road and the Mokelumne Aqueduct.

(9) Proceed south-southwest 5.5 miles, crossing onto the Clifton Court Forebay map, to the stream gauging station on Italian Slough, just west of Widdows Island and the shared Contra Costa-San Joaquin County line.

(10) Proceed due west in a straight line to the western shore of Italian Slough, then proceed southwesterly along the shore of Italian Slough to its confluence with Brushy Creek.

(11) Proceed westerly along Brushy Creek, crossing onto the Byron Hot Springs (2018 edition) map and continuing southwesterly along the creek to its intersection with Vasco Road.

(12) Proceed northwest in a straight line 4.3 miles to the intersection of Kellogg Creek and Walnut Boulevard.

(13) Proceed west-southwest in a straight line 2.9 miles, crossing onto the Tassajara (2018 edition) map, to the intersection of Marsh Creek and Miwok Trail.

(14) Proceed northwesterly along Marsh Creek 2.4 miles, crossing onto the Antioch South map, to the creek's intersection with Deer Valley Road.

(15) Proceed northerly along Deer Valley Road 3.1 miles to its intersection with Chadbourne Road.

(16) Proceed northwest in a straight line 0.6 mile to the southwestern terminus of Tour Way.

(17) Proceed northwest in a straight line 3 miles to the intersection of Oil Canyon Trail, Stewartville Trail, and Chadbourne Road.

(18) Proceed northeasterly along the Stewartville Trail 1.9 miles to its intersection with the Contra Loma Trail.

(19) Proceed northwest in a straight line 2.5 miles to the intersection of Somersville Road and Donlan Boulevard.

(20) Proceed west-southwest in a straight line 2.5 miles, crossing onto the Clayton (2018 edition) map, to the intersection of Nortonville Road and Kirker Pass Road.

(21) Proceed southwesterly along Kirker Pass Road approximately 2.5 miles to its intersection with Hess Road.

(22) Proceed southeasterly in a straight line to the 3,849-foot summit of Mt. Diablo.

* * * * *

3. Amend § 9.157 by:

a. Removing the word “and” at the end of paragraph (b)(46);

b. Removing the “.” at the end of paragraph (b)(47) and adding a “;” in its place;

c. Adding paragraphs (b)(48) through (b)(58);

d. Revising paragraphs (c)(22) through (c)(24);

e. Redesignating paragraphs (c)(25) through (c)(44) as paragraphs (c)(40) through (c)(59); and

f. Adding new paragraphs (c)(25) through (c)(39).

The additions and revisions read as follows:

§ 9.157 San Francisco Bay.

* * * * *

(b) * * *

(48) Clayton, California, scale 1:24,000, 2018;

(49) Antioch South, California, scale 1:24,000, 2018;

(50) Tassajara, California, scale 1:24,000, 2018;

(51) Byron Hot Springs, California, scale 1:24,000, 2018;

(52) Clifton Court Forebay, California, scale 1:24,000, 2018;

(53) Woodward Island, California, scale 1:24,000; 2018;

(54) Bouldin Island, California, scale 1:24,000, 2018;

(55) Jersey Island, California, scale 1:24,000, 2018;

(56) Antioch North, California, scale 1:24,000, 2018;

(57) Honker Bay, California, scale 1:24,000, 2018; and

(58) Vine Hill, California, scale 1:24,000, 2018.

(c) * * *

(22) Then proceed in a northwesterly direction in a straight line to the intersection of Kirker Pass Road and Hess Road on the Clayton (2018 edition) map.

(23) Proceed northeasterly along Kirker Pass Road to its intersection with Nortonville Road.

(24) Proceed east-northeast in a straight line for 2.5 miles, crossing onto the Antioch South map, to the intersection of Somersville Road and Donlan Boulevard.

(25) Proceed southeasterly in a straight line for 2.5 miles to the intersection of the Stewartville Trail and the Contra Loma Trail.

(26) Proceed southwesterly along Stewartsville Trail for 1.9 miles to the intersection of Oil Canyon Trail, Stewartsville Trail, and Chadbourne Road.

(27) Proceed southeast in a straight line for 3 miles to the southern terminus of Tour Way.

(28) Proceed southeast in a straight line for 0.6 miles to the intersection of Chadbourne Road and Deer Valley Road.

(29) Proceed southerly along Deer Valley Road for 3.1 miles to its intersection with Marsh Creek.

(30) Proceed southeasterly along Marsh Creek for 2.4 miles, crossing onto the Tassajara (2018 edition) map, to the creek's intersection with Miwok Trail.

(31) Proceed north-northeast in a straight line for 2.9 miles, crossing onto the Byron Hot Springs (2018 edition) map, to the intersection of Kellogg Creek and Walnut Boulevard.

(32) Proceed southeast in a straight line for 4.3 miles to the intersection of Brushy Creek and Vasco Road.

(33) Proceed northeasterly along Brushy Creek, crossing onto the Clifton Court Forebay map, to the confluence of Brushy Creek with the western shore of Italian Slough to a point due west of the stream gauging station on Italian Slough, just west of Widdows Island and the shared Contra Costa-San Joaquin County line.

(34) Proceed due east to the stream gauging station, then proceed north-northeast for 5.5 miles, crossing onto the Woodward Island map, to the intersection of the Mokelumne Aqueduct and Orwood Road.

(35) Proceed north-northwest in a straight line for 4.1 miles to the intersection of Holland Tract Road and the 10-foot elevation contour.

(36) Proceed north for 1.9 miles along Holland Tract Road, crossing onto the Bouldin Island map, and continuing to the northernmost point of Holland Tract Road.

(37) Proceed southeast in a straight line for 2.7 miles, crossing onto the Jersey Island map, to the intersection of Wells Road and Sandmound Road.

(38) Proceed northwest in a straight line for 0.7 mile to the intersection of Bethel Island Road and the shoreline of Dutch Slough Road.

(39) Proceed westerly along the shoreline of Dutch Slough and Big Break, crossing onto the Antioch North map, and continuing westerly along the shoreline of New York Slough, crossing onto the Honker Bay (2018 edition) map, and continuing westerly along the shoreline and onto the Vine Hill (2018 edition) map to the intersection of the shoreline and Interstate 680 at the Benicia-Martinez Bridge.

* * * * *

4. Add § 9.__ to read as follows:

§ 9.__ Contra Costa.

(a) Name. The name of the viticultural area described in this section is “Contra Costa”. For purposes of part 4 of this chapter, “Contra Costa” is a term of viticultural significance.

(b) Approved maps. The 15 United States Geological Survey (USGS) 1:24,000 scale topographic maps used to determine the boundary of the Contra Costa viticultural area are titled:

(1) Antioch North, California, 2018;

(2) Antioch South, California, 2018;

(3) Benicia, California, 2018;

(4) Bouldin Island, California, 2018;

(5) Briones Valley, California, 2018;

(6) Byron Hot Springs, California, 2018;

(7) Clayton, California, 2018;

(8) Clifton Court Forebay, California, 2018;

(9) Jersey Island, California, 2018;

(10) Honker Bay, California, 2018;

(11) Tassajara, California, 2018;

(12) Vine Hill, California, 2018;

(13) Walnut Creek, California, 1995;

(14) Walnut Creek, California, 2018; and

(15) Woodward Island, California, 2018.

(c) Boundary. The Contra Costa viticultural area is located in Contra Costa County, California. The boundary of the Contra Costa viticultural area is as described as follows:

(1) The beginning point is on the Bouldin Island map at the northernmost point of Holland Tract Road. From the beginning point, proceed south 1.9 miles along Holland Tract Road, crossing onto the Woodward Island map, to the intersection of the road with the 10-foot elevation contour; then

(2) Proceed south-southeast in a straight line 4.1 miles to the intersection of Orwood Road and the Mokelumne Aqueduct; then

(3) Proceed south-southwest in a straight line 5.5 miles, crossing onto the Clifton Court Forebay map, to the stream gauging station on Italian Slough, just west of the Widdows Island and the shared Contra Costa-San Joaquim County line; then

(4) Proceed due west in a straight line to the western shore of Italian Slough, then proceed southwesterly along the western shore Italian Slough to its confluence with Brushy Creek; then

(5) Proceed westerly along Brushy Creek, crossing onto the Byron Hot Springs map and continuing southwesterly along the creek to its intersection with Vasco Road; then

(6) Proceed northwest in a straight line 4.3 miles to the intersection of Kellogg Creek and Walnut Boulevard; then

(7) Proceed west-southwest in a straight line 2.9 miles, crossing onto the Tassajara map, to the intersection of Marsh Creek and Miwok Trail; then

(8) Proceed northwesterly along Marsh Creek 2.4 miles, crossing onto the Antioch South map, to the creek's intersection with Deer Valley Road; then

(9) Proceed northerly along Deer Valley Road 3.1 miles to its intersection with Chadbourne Road; then

(10) Proceed northwest in a straight line 0.6 mile to the southwestern terminus of Tour Way; then

(11) Proceed northwest in a straight line 3 miles to the intersection of Oil Canyon Trail, Stewartville Trail, and Chadbourne Road; then

(12) Proceed northeasterly along Stewartville Trail 1.9 miles to its intersection with the Contra Loma Trail; then

(13) Proceed northwest in a straight line 2.5 miles to the intersection of Somersville Road and Donlan Boulevard; then

(14) Proceed west-southwest in a straight line 2.5 miles, crossing onto the Clayton map, to the intersection of Nortonville Road and Kirker Pass Road; then

(15) Proceed southwesterly along Kirker Pass Road 5 miles to its intersection with Alberta Way; then

(16) Proceed southwest in a straight line 1.5 miles to the intersection of Buckeye Trail, Blue Oak Trail, and Lime Ridge Trail; then

(17) Proceed south-southeast in a straight line 2.6 miles to the intersection of Arroyo Cerro Del and the 400-foot elevation contour just east of North Gate Road; then

(18) Proceed northwest in a straight line 2.5 miles, crossing onto the Walnut Creek map (2018 edition), to the intersection of Brodia Way and La Casa Via; then

(19) Proceed west-northwest in a straight line, crossing onto the Walnut Creek (1995 edition) map, and continue 3.1 miles on the 1995 edition map to the marked 781-foot peak south of the shared Lafayette-Walnut Creek corporate boundary line and north of an unnamed light-duty road known locally as Peaceful Lane; then

(20) Proceed northwest in a straight line 1.7 miles to the 833-foot peak marked “Hump 2”; then

(21) Proceed north-northwest 0.5 mile to the water tank (known locally as the Withers Reservoir) at the end of an unnamed light-duty road known locally as Kim Road, in the Cañada del Hambre y Las Bolsas Land Grant; then

(22) Proceed northwest in a straight line 3 miles, crossing onto the Briones Valley map, to the intersection of Alhambra Creek Road and Alhambra Valley Road; then

(23) Proceed northwest in a straight line 4.1 miles, crossing onto the Benicia map, to the intersection of Highway 4 and Cummings Skyway; then

(24) Proceed north-northwest in a straight line 1.8 miles to the intersection of Carquinez Scenic Drive and an unnamed road known locally as Canyon Lake Drive; then

(25) Proceed northeasterly in a straight line 0.6 mile to the marked post office in Port Costa; then

(26) Proceed southeast in a straight line 0.9 mile to the first unnamed road that crosses the railroad tracks and intersects with the shoreline at Little Bull Valley; then

(27) Proceed easterly along the shoreline approximately 38.3 miles, crossing over the Vine Hill, Honker Bay, and Antioch North maps and onto the Jersey Island map to Bethel Island Road; then

(28) Proceed southeast in a straight line 0.7 mile to the intersection of Wells Road and Sandmound Boulevard; then

(29) Proceed northeast in a straight line 2.7 miles, crossing onto the Bouldin Island map and returning to the beginning point.

Signed: March 17, 2023.
Mary G. Ryan,
Administrator.
Approved: March 20, 2023.
Thomas C. West, Jr.,
Deputy Assistant Secretary (Tax Policy).

[FR Doc. 2023-06350 Filed 3-28-23; 8:45 am]

BILLING CODE 4810-31-P